DEPARTMENT OF COMMERCE

National Institute of Standards and Technology

Notice of Government Owned Inventions Available for Licensing

AGENCY: National Institute of Standards and Technology, Commerce.

ACTION: Notice of government owned inventions available for licensing.

SUMMARY: The inventions listed below are owned in whole by the U.S. Government, as represented by the Department of Commerce. The inventions are available for licensing in accordance with 35 U.S.C. 207 and 37 CFR part 404 to achieve expeditious commercialization of results of Federally funded research and development.

FOR FURTHER INFORMATION CONTACT: Technical and licensing information on these inventions may be obtained by writing to: National Institute of Standards and Technology, Office of Technology Partnerships, Attn: Mary Clague, Building 820, Room 213, Gaithersburg, MD 20899. Information is also available via telephone: 301-975-4188, fax 301-869-2751, or e-mail: mary.clague@nist.gov. Any request for information should include the NIST Docket number and title for the relevant invention as indicated below.

SUPPLEMENTARY INFORMATION: NIST may enter into a Cooperative Research and Development Agreement (“CRADA”) with the licensee to perform further research on the inventions for purposes of commercialization. The inventions available for licensing are:

Docket No.: 99-021CIP.

Title: Apparatus and Method Utilizing Bi-directional Relative Movement for Refreshable Tactile Display.

Abstract: A refreshable Braille reader apparatus and method are disclosed, the apparatus preferably utilizing a rotating cylinder having endless rows of openings defined therethrough to a display surface with a pin held in each opening and freely movable therein. Static actuators at least equal in number to the rows of openings through the cylinder are maintained at a station adjacent to the surface of the cylinder, and are configured and positioned so that the pins are selectively contractable at either of their ends by different ones of the actuators during cylinder rotation in either forward or reverse direction thereby selectively positioning first ends of the pins relative to the surface of the cylinder to allow streaming of Braille text across a display area in either forward or backward order depending upon selected direction of cylinder rotation.

Docket No.: 01-014US.

Title: Method And Device For Avoiding Chatter During Machine Tool Operation.

Abstract: The invention uses once-per-revolution sampling of the audio (or other appropriate sensor) signal during cutting to detect chatter i.e., unstable machining. The synchronously sampled audio (or other appropriate sensor) machining data is shown on a real-time LED display that allows the user (machinist) to visually detect the onset of chatter and adjust machining conditions. This method of chatter avoidance requires no knowledge of machine dynamics, process specific cutting energy coefficients, or chatter theory; all of which are the key impediments to the successful implementation of high-speed machining on the shop floor. The device described here requires no interface with the machine tool controller and could be added as an after market supplement. Additionally, it is shown that the use of this device allows determination of the well-known stability lobe diagrams without direct knowledge of the tool point dynamic response or cutting energy coefficients.

Dated: April 28, 2003.
Karen H. Brown,
Deputy Director.

[FR Doc. 03-10923 Filed 5-1-03; 8:45 am]

BILLING CODE 3510-13-P